DEPARTMENT OF AGRICULTURE

Animal and Plant Health Inspection Service

[Docket No. APHIS-2011-0078]

Notice of Availability of a Pest Risk Analysis for the Importation of Shredded Lettuce From Egypt

AGENCY: Animal and Plant Health Inspection Service, USDA.

ACTION: Notice.

SUMMARY: We are advising the public that we have prepared a pest risk analysis that evaluates the risks associated with the importation into the continental United States of fresh shredded lettuce from Egypt. Based on this analysis, we believe that the application of one or more designated phytosanitary measures will be sufficient to mitigate the risks of introducing or disseminating plant pests or noxious weeds via the importation of fresh shredded lettuce from Egypt. We are making the pest risk analysis available to the public for review and comment.

DATES: We will consider all comments that we receive on or before October 17, 2011.

ADDRESSES: You may submit comments by either of the following methods:

• Federal eRulemaking Portal: Go to http://www.regulations.gov/#!documentDetail;D=APHIS-2011-0078-0001.

• Postal Mail/Commercial Delivery: Send your comment to Docket No. APHIS-2011-0078, Regulatory Analysis and Development, PPD, APHIS, Station 3A-03.8, 4700 River Road Unit 118, Riverdale, MD 20737-1238.

Supporting documents and any comments we receive on this docket may be viewed at http://www.regulations.gov/#!docketDetail;D=APHIS-2011-0078 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Mr. Marc Phillips, Import Specialist, RCC, RPM, PPQ, APHIS, 4700 River Road Unit 133, Riverdale, MD 20737; (301) 734-4394.

SUPPLEMENTARY INFORMATION:

Background

Under the regulations in “Subpart—Fruits and Vegetables” (7 CFR 319.56-1 through 319.56-51, referred to below as the regulations), the Animal and Plant Health Inspection Service (APHIS) of the U.S. Department of Agriculture prohibits or restricts the importation of fruits and vegetables into the United States from certain parts of the world to prevent plant pests from being introduced into and spread within the United States.

Section 319.56-4 contains a performance-based process for approving the importation of commodities that, based on the findings of a pest risk analysis, can be safely imported subject to one or more of the designated phytosanitary measures listed in paragraph (b) of that section.

APHIS received a request from the Government of Egypt to allow the importation of fresh shredded lettuce (Lactuca sativa L.) from Egypt into the continental United States. Currently, fresh shredded lettuce is not authorized for entry from Egypt. We have completed a pest risk analysis for the purpose of evaluating the pest risks associated with the importation of fresh shredded lettuce into the continental United States. The analysis consists of a pest list identifying pests of quarantine significance that are present in Egypt and could follow the pathway of importation into the United States and a risk management document identifying phytosanitary measures that could be applied to the commodity to mitigate the pest risk.

We have concluded that fresh shredded lettuce can be safely imported into the continental United States from Egypt using one or more of the five designated phytosanitary measures listed in § 319.56-4(b). The measures we selected are:

• Fresh shredded lettuce may be imported into the continental United States in commercial consignments only.

• Each consignment of shredded lettuce leaves must be accompanied by a phytosanitary certificate issued by the national plant protection organization of Egypt with an additional declaration stating the following: “Shredded lettuce leaves in this consignment were inspected and found free from quarantine pests.”

Therefore, in accordance with § 319.56-4(c), we are announcing the availability of our pest risk analysis for public review and comment. The pest risk analysis may be viewed on the Regulations.gov Web site or in our reading room (see ADDRESSES above for a link to Regulations.gov and information on the location and hours of the reading room). You may request paper copies of the pest risk analysis by calling or writing to the person listed under FOR FURTHER INFORMATION CONTACT. Please refer to the subject of the pest risk analysis you wish to review when requesting copies.

After reviewing any comments we receive, we will announce our decision regarding the import status of fresh shredded lettuce from Egypt in a subsequent notice. If the overall conclusions of the analysis and the Administrator's determination of risk remain unchanged following our consideration of the comments, then we will begin issuing permits for the importation of fresh shredded lettuce from Egypt into the continental United States subject to the requirements specified in the risk management documents.

Authority: 7 U.S.C. 450, 7701-7772, and 7781-7786; 21 U.S.C. 136 and 136a; 7 CFR 2.22, 2.80, and 371.3.

Done in Washington, DC, this 11th day of August 2011.
Gregory L. Parham,
Administrator, Animal and Plant Health Inspection Service.

[FR Doc. 2011-20882 Filed 8-16-11; 8:45 am]

BILLING CODE 3410-34-P